DEPARTMENT OF ENERGY

Federal Energy Regulatory Commission

Combined Notice of Filings #1

Take notice that the Commission received the following electric corporate filings:

Docket Numbers: EC23-55-000.

Applicants: SR Turkey Creek, LLC.

Description: Application for Authorization Under Section 203 of the Federal Power Act of SR Turkey Creek, LLC.

Filed Date: 2/6/23.

Accession Number: 20230206-5166.

Comment Date: 5 p.m. ET 2/27/23.

Take notice that the Commission received the following electric rate filings:

Docket Numbers: ER10-1951-054; ER10-1970-027; ER10-1972-027; ER10-1973-020; ER10-1974-031; ER10-2641-044; ER11-2192-021; ER11-2365-010; ER11-4677-025; ER12-676-021; ER12-2444-024; ER13-2461-022; ER14-2710-026; ER15-58-024; ER16-1440-020; ER16-1913-012; ER16-2241-019; ER16-2297-020; ER16-2506-020; ER17-196-010; ER17-838-051; ER18-807-011; ER18-1981-015; ER18-2224-018; ER19-11-010; ER19-2266-008; ER20-792-009; ER20-1219-007; ER20-1220-009; ER20-1417-008; ER20-1879-010; ER20-1985-007; ER20-1988-008; ER20-1991-009; ER20-2012-007; ER20-2648-008; ER21-183-007; ER21-1532-005; ER21-1880-005; ER21-2100-006; ER21-2641-006; ER22-96-004; ER23-147-001; ER23-148-001.

Applicants: Resurgence Solar II, LLC, Resurgence Solar I, LLC, Route 66 Solar Energy Center, LLC, Quinebaug Solar, LLC, Point Beach Solar, LLC, Niyol Wind, LLC, Quitman II Solar, LLC, Nutmeg Solar, LLC, Northern Divide Wind, LLC, Orbit Bloom Energy, LLC, Ponderosa Wind, LLC, Northern Colorado Wind Energy Center II, LLC, Northern Colorado Wind Energy Center, LLC, Oliver Wind Energy Center II, LLC, Roundhouse Renewable Energy, LLC, Oliver Wind II, LLC, Peetz Table Wind, LLC, Oklahoma Wind, LLC, Quitman Solar, LLC, Peetz Logan Interconnect, LLC, Pegasus Wind, LLC, Pratt Wind, LLC, Pinal Central Energy Center, LLC, NextEra Energy Marketing, LLC, Pima Energy Storage System, LLC, Oliver Wind III, LLC, Osborn Wind Energy, LLC, Ninnescah Wind Energy, LLC, River Bend Solar, LLC, Roswell Solar, LLC, Palo Duro Wind Interconnection Services, LLC, Palo Duro Wind Energy, LLC ,Pheasant Run Wind, LLC, North Sky River Energy, LLC, Perrin Ranch Wind, LLC, NextEra Energy Montezuma II Wind, LLC, Paradise Solar Urban Renewal, L.L.C., Red Mesa Wind, LLC, Oleander Power Project, Limited Partnership, Northeast Energy Associates, A Limited Partnership, NextEra Energy Seabrook, LLC, NextEra Energy Point Beach, LLC, NextEra Energy Duane Arnold, LLC, NextEra Energy Services Massachusetts, LLC.

Description: Notice of Change in Status of NextEra Companies, et al.

Filed Date: 2/1/23.

Accession Number: 20230201-5272.

Comment Date: 5 p.m. ET 2/22/23.

Docket Numbers: ER10-2078-026; ER11-4678-025; ER12-631-026; ER12-1660-027; ER13-2458-022; ER13-2474-025; ER14-2708-027; ER14-2709-026; ER15-30-024; ER15-1016-018; ER15-2243-016; ER16-1277-015; ER16-1293-015; ER16-2240-020; ER17-582-017; ER17-583-017; ER17-2270-019; ER18-2032-015; ER18-2091-012; ER18-2314-012; ER19-774-010; ER19-1076-010; ER19-1128-009; ER19-2382-011; ER19-2495-011; ER19-2513-011; ER20-637-009; ER20-780-009; ER20-2070-007; ER20-2153-009; ER20-2237-009; ER20-2380-007; ER20-2597-009; ER20-2603-009; ER20-2622-007; ER21-255-007; ER21-744-006; ER21-1506-006; ER21-1580-007; ER21-1813-009; ER21-1814-009; ER21-2048-007; ER21-2109-005; ER22-1370-006; ER22-1870-003; ER22-2601-002; ER22-2824-003; ER23-493-002.

Applicants: Thunder Wolf Energy Center, LLC, Yellow Pine Solar, LLC, Walleye Wind, LLC, Vansycle II Wind, LLC, Sunlight Storage, LLC, Wheatridge Solar Energy Center, LLC, Sac County Wind, LLC, Yellow Pine Energy Center II, LLC, Yellow Pine Energy Center I, LLC, Sky River Wind, LLC, Shaw Creek Solar, LLC, Wallingford Renewable Energy LLC, Taylor Creek Solar, LLC, Wilmot Energy Center, LLC, Skeleton Creek Wind, LLC, Soldier Creek Wind, LLC, Saint Solar, LLC, Weatherford Wind, LLC, Sanford Airport Solar, LLC, Wheatridge Wind II, LLC, Sooner Wind, LLC, Wilton Wind Energy I, LLC, Wilton Wind Energy II, LLC, Wessington Springs Wind, LLC, Story County Wind, LLC, Rush Springs Energy Storage, LLC, Windstar Energy, LLC, Stanton Clean Energy, LLC, Sholes Wind Energy, LLC, Titan Solar, LLC, Wildcat Ranch Wind Project, LLC, Stuttgart Solar, LLC, Whitney Point Solar, LLC, Westside Solar, LLC, Rush Springs Wind Energy, LLC, White Oak Solar, LLC, White Pine Solar, LLC, Silver State Solar Power South, LLC, Shafter Solar, LLC, Seiling Wind Interconnection Services, LLC, Seiling Wind II, LLC, Seiling Wind, LLC, Steele Flats Wind Project, LLC, Tuscola Wind II, LLC, Tuscola Bay Wind, LLC, Windpower Partners 1993, LLC, Vasco Winds, LLC, White Oak Energy LLC.

Description: Notice of Change in Status of NextEra Companies, et al.

Filed Date: 2/1/23.

Accession Number: 20230201-5273.

Comment Date: 5 p.m. ET 2/22/23.

Docket Numbers: ER10-3193-015; ER10-3195-009; ER10-3194-008; ER17-580-005; ER19-2707-005; ER10-1901-014; ER22-2030-002; ER22-2031-003; ER22-2580-001.

Applicants: CPV Three Rivers, LLC, Sonoran West Solar Holdings 2, LLC, Sonoran West Solar Holdings, LLC, Upper Peninsula Power Company, Poseidon Wind, LLC, Axium Modesto Solar, LLC, MATEP LLC, MATEP Limited Partnership, Brooklyn Navy Yard Cogeneration Partners, L.P.

Description: Notice of Change in Status of Brooklyn Navy Yard Cogeneration Partners, L.P., et al.

Filed Date: 1/31/23.

Accession Number: 20230131-5517.

Comment Date: 5 p.m. ET 2/21/23.

Docket Numbers: ER19-2373-012; ER10-1972-028; ER10-1841-029; ER10-1907-028; ER10-1918-029; ER10-1950-029; ER10-1970-028; ER10-2005-029; ER10-2078-027; ER11-4462-077; ER12-1660-028; ER13-2458-023; ER13-2461-023; ER10-1852-077; ER16-1872-019; ER16-2506-021; ER17-838-052; ER17-2270-020; ER18-1771-018; ER18-2224-019; ER18-2246-018; ER19-987-016; ER19-1003-016; ER19-1393-016; ER19-1394-016; ER19-2382-012; ER19-2398-014; ER19-2437-012; ER19-2461-012; ER20-122-010; ER20-1220-010; ER20-1796-001; ER20-1879-011; ER20-1987-011; ER20-2690-010; ER21-1320-006; ER21-1953-008; ER21-2048-008; ER21-2100-007; ER22-381-007.

Applicants: Dunns Bridge Solar Center, LLC, Point Beach Solar, LLC, Sac County Wind, LLC, Heartland Divide Wind II, LLC, Crystal Lake Wind Energy III, LLC, Jordan Creek Wind Farm LLC, Cerro Gordo Wind, LLC, Oliver Wind I, LLC, Chicot Solar, LLC, Oliver Wind Energy Center II, LLC, Crowned Ridge Interconnection, LLC, Crowned Ridge Wind, LLC, Emmons-Logan Wind, LLC, Hancock County Wind, LLC, Story County Wind, LLC, Endeavor Wind II, LLC, Endeavor Wind I, LLC, Crystal Lake Wind Energy II, LLC, Crystal Lake Wind Energy I, LLC, Heartland Divide Wind Project, LLC, Pegasus Wind, LLC, Langdon Renewables, LLC, Stuttgart Solar, LLC, NextEra Energy Marketing, LLC, Oliver Wind III, LLC, Marshall Solar, LLC, Florida Power & Light Company, Pheasant Run Wind, LLC, Tuscola Wind II, LLC, Tuscola Bay Wind, LLC, NEPM II, LLC, White Oak Energy LLC, Ashtabula Wind II, LLC, NextEra Energy Duane Arnold, LLC, Garden Wind, LLC, FPL Energy North Dakota Wind II, LLC, FPL Energy North Dakota Wind, LLC, Butler Ridge Wind Energy Center, LLC, NextEra Energy Point Beach, LLC, Ashtabula Wind I, LLC.

Description: Notice of Change in Status of Ashtabula Wind I, LLC, et al.

Filed Date: 1/31/23.

Accession Number: 20230131-5519.

Comment Date: 5 p.m. ET 2/21/23.

Docket Numbers: ER21-1755-003; ER17-380-004.

Applicants: Stored Solar J&WE, LLC, Hartree Partners, LP.

Description: Notice of Change in Status of Hartree Partners, LP, et al.

Filed Date: 1/31/23.

Accession Number: 20230131-5516.

Comment Date: 5 p.m. ET 2/21/23.

Docket Numbers: ER22-1982-005; ER20-820-011; ER21-2294-008; ER22-1870-004; ER22-2518-003; ER22-2536-003; ER22-2601-003; ER22-2634-003; ER22-2824-004; ER23-71-002; ER23-147-002; ER23-148-002; ER23-489-003; ER23-493-003; ER23-568-002; ER22-2516-002.

Applicants: Chaves County Solar II, LLC, Big Cypress Solar, LLC, Thunder Wolf Energy Center, LLC, Neptune Energy Center, LLC, Resurgence Solar II, LLC, Resurgence Solar I, LLC, Buena Vista Energy Center, LLC, Yellow Pine Solar, LLC, Buffalo Ridge Wind, LLC, Walleye Wind, LLC, Kossuth County Wind, LLC, Clearwater Wind I, LLC, Vansycle II Wind, LLC, Arlington Energy Center II, LLC, Blythe Solar IV, LLC, Great Prairie Wind, LLC.

Description: Notice of Change in Status of Great Prairie Wind, LLC, et al.

Filed Date: 1/31/23.

Accession Number: 20230131-5518.

Comment Date: 5 p.m. ET 2/21/23.

Docket Numbers: ER23-408-001.

Applicants: PacifiCorp.

Description: Compliance filing: OATT Existing Generator Replacement Procedures; Compliance Filing to be effective 1/10/2023.

Filed Date: 2/7/23.

Accession Number: 20230207-5061.

Comment Date: 5 p.m. ET 2/28/23.

Docket Numbers: ER23-1054-000.

Applicants: PPL Electric Utilities Corporation, PJM Interconnection, L.L.C.

Description: § 205(d) Rate Filing: PPL Electric Utilities Corporation submits tariff filing per 35.13(a)(2)(iii): PPL submits SA No. 6789 Construction Service Agreement to be effective 1/9/2023.

Filed Date: 2/6/23.

Accession Number: 20230206-5073.

Comment Date: 5 p.m. ET 2/27/23.

Docket Numbers: ER23-1055-000.

Applicants: Alabama Power Company, Georgia Power Company, Mississippi Power Company.

Description: Tariff Amendment: Alabama Power Company submits tariff filing per 35.15: Peach Blossom Energy III LGIA Termination Filing to be effective 2/6/2023.

Filed Date: 2/6/23.

Accession Number: 20230206-5103.

Comment Date: 5 p.m. ET 2/27/23.

Docket Numbers: ER23-1056-000.

Applicants: Alabama Power Company, Georgia Power Company, Mississippi Power Company.

Description: § 205(d) Rate Filing: Alabama Power Company submits tariff filing per 35.13(a)(2)(iii): Three Rocks Solar Amended & Restated LGIA Filing to be effective 1/24/2023.

Filed Date: 2/6/23.

Accession Number: 20230206-5104.

Comment Date: 5 p.m. ET 2/27/23.

Docket Numbers: ER23-1057-000.

Applicants: Basin Electric Power Cooperative.

Description: Initial rate filing: Basin Electric Submission of Miscellaneous Service Agreements to be effective 7/10/2020.

Filed Date: 2/6/23.

Accession Number: 20230206-5106.

Comment Date: 5 p.m. ET 2/27/23.

Docket Numbers: ER23-1058-000.

Applicants: PJM Interconnection, L.L.C.

Description: § 205(d) Rate Filing: Revisions involving Market Participant Event of Default to be effective 4/8/2023.

Filed Date: 2/6/23.

Accession Number: 20230206-5123.

Comment Date: 5 p.m. ET 2/27/23.

Docket Numbers: ER23-1059-000.

Applicants: PJM Interconnection, L.L.C.

Description: § 205(d) Rate Filing: Original NSA, SA No. 6773; Queue No. AD1-020 to be effective 1/10/2023.

Filed Date: 2/7/23.

Accession Number: 20230207-5083.

Comment Date: 5 p.m. ET 2/28/23.

Docket Numbers: ER23-1060-000.

Applicants: PJM Interconnection, L.L.C.

Description: § 205(d) Rate Filing: Original UCSA, Service Agreement No. 6776; Queue No. J875 to be effective 1/11/2023.

Filed Date: 2/7/23.

Accession Number: 20230207-5092.

Comment Date: 5 p.m. ET 2/28/23.

Docket Numbers: ER23-1061-000.

Applicants: PJM Interconnection, L.L.C.

Description: § 205(d) Rate Filing: Revisions to OA & RAA re: 3Q & 4Q 2022 Updates to Member Lists to be effective 12/31/2022.

Filed Date: 2/7/23.

Accession Number: 20230207-5108.

Comment Date: 5 p.m. ET 2/28/23.

Docket Numbers: ER23-1062-000.

Applicants: Chaves County Solar, LLC.

Description: § 205(d) Rate Filing: Chaves County Solar, LLC and Chaves County Solar II, LLC A&R SFA to be effective 3/6/2023.

Filed Date: 2/7/23.

Accession Number: 20230207-5117.

Comment Date: 5 p.m. ET 2/28/23.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 7, 2023.
Kimberly D. Bose,
Secretary.

[FR Doc. 2023-03008 Filed 2-10-23; 8:45 am]

BILLING CODE 6717-01-P